ENVIRONMENTAL PROTECTION AGENCY

[EPA-HQ-OPPT-2020-0135; FRL-10013-62]

TSCA Science Advisory Committee on Chemicals; Request for Nominations; Extension of Nomination and Public Comment Periods

AGENCY: Environmental Protection Agency (EPA).

ACTION: Notice; extension of nomination and public comment periods.

SUMMARY: On March 20, 2020, the Environmental Protection Agency (EPA) invited the public to nominate scientific experts from a diverse range of disciplines to be considered for appointment to the Toxic Substances Control Act (TSCA), Science Advisory Committee on Chemicals (SACC). On April 15, 2020, a federal district court vacated the grants policy articulated in EPA's 2017 federal advisory committee membership directive. In light of that intervening decision, EPA is extending the nomination and public comment periods to receive additional nominees and input on prospective candidates for the SACC. Please note that all prior nominations and comments will be considered by EPA and do not need to be resubmitted.

DATES:

Nominations: To be considered for appointment to the SACC nominations must be received on or before September 1, 2020. Late nominations will not be considered.

Comments: Public comments on prospective candidates for membership on the SACC must be received within 30 days of EPA posting of an updated List of Candidates. The availability of the list and the due date for public comments will be announced through the Office of Chemical Safety and Pollution Prevention (OCSPP)'s listservs.

ADDRESSES:

Nominations: Submit your nominations, identified by docket identification (ID) number EPA-HQ-OPPT-2020-0135, by email to knott.steven@epa.gov.

Comments: Submit your comments, identified by docket identification (ID) number EPA-HQ-OPPT-2020-0135, to the Federal eRulemaking Portal: https://www.regulations.gov. Follow the online instructions for submitting comments. Do not submit electronically any information you consider to be Confidential Business Information (CBI) or other information whose disclosure is restricted by statute.

Additional instructions on commenting or visiting the docket, along with more information about dockets generally, is available at http://www.epa.gov/dockets.

FOR FURTHER INFORMATION CONTACT: Steven M. Knott, MS, Designated Federal Officer (DFO), Office of Science Coordination and Policy (7201M), Environmental Protection Agency, 1200 Pennsylvania Avenue NW, Washington, DC 20460; telephone number: (202) 564-0103; email address: knott.steven@epa.gov.

SUPPLEMENTARY INFORMATION:

I. General Information

EPA is extending the nomination and public comment periods to receive additional nominees and input on prospective candidates to be considered for appointment to the SACC. The purpose of the SACC is to provide independent advice and expert consultation, at the request of the EPA Administrator, with respect to the scientific and technical aspects of issues relating to implementation of TSCA. EPA anticipates appointing multiple SACC members over the next year. Sources in addition to this solicitation may be utilized to solicit nominations and identify candidates. Current members of the SACC are eligible for reappointment during this period. Therefore, the appointments completed over the next year may include a mix of newly appointed and reappointed members. As additional background, the biographies of current SACC members are available on the TSCA SACC website at https://www.epa.gov/tsca-peer-review/members-science-advisory-committee-chemicals.

EPA previously solicited nominations for the SACC in the Federal Register of March 20, 2020 (85 FR 16095; FRL-10006-50), requesting such nominations be submitted such that they were received on or before April 20, 2020. On April 15, 2020, the U.S. District Court for the Southern District of New York (SDNY) vacated Section 1 of EPA's 2017 federal advisory committee membership directive (2017 Directive), which announced “a requirement that no member of an EPA federal advisory committee be currently in receipt of EPA grants.” As a result of the vacatur, Section 1 is no longer in effect and EPA is following the relevant policies as they existed before the 2017 Directive. However, because EPA was still seeking nominations when the SDNY vacated Section 1, EPA is reopening the SACC's membership solicitations and accepting further nominations and public comments.

II. Background

The SACC is a federal advisory committee, established in December 2016 pursuant to TSCA section 2625(o), and chartered under the Federal Advisory Committee Act (FACA), 5 U.S.C. Appendix 2. EPA established the SACC to provide independent advice and recommendations to the EPA Administrator on the scientific basis for risk assessments, methodologies, and approaches relating to implementation of TSCA. The SACC members serve as Special Government Employees (SGEs) or Regular Government Employees (RGEs). The SACC expects to meet approximately 4 to 6 times per year, or as needed and approved by the DFO. Meetings may be virtual (e.g., held via telephone and webcast) or they may be held in the Washington, DC, metropolitan area.

In January 2017, the EPA Administrator appointed 18 members to the SACC. After further consideration of the objectives and scope of SACC activities, EPA decided to increase the membership of the SACC, and in March 2018, completed additional appointments resulting in a total of 26 members. Subsequently, some SACC members either resigned or declined to serve extended appointments. Currently, there are 19 SACC members, all with membership terms that will expire over the next year.

To date, SACC members and ad hoc reviewers have provided their expertise and knowledge on the first draft chemical risk evaluations. These individuals have dedicated an incredible amount of time to provide EPA with thoughtful and important recommendations for improving the risk evaluations. At times, SACC members were working on multiple chemical evaluations while also preparing for and participating in peer review meetings and writing reports. EPA greatly appreciates the dedication and commitment to service of the SACC members.

Given the foundation provided by the SACC recommendations from peer reviews of the first 10 chemical risk evaluations, EPA is exploring different ways to use the SACC's expertise for providing independent advice and expert consultation. The Agency is considering requesting that the SACC review significant, cross-cutting science issues on exposure, risk, and modeling, similar to how the Agency uses the Federal Insecticide, Fungicide, and Rodenticide Act (FIFRA), Scientific Advisory Panel (SAP) for health and safety issues related to pesticides. Therefore, EPA may not ask the SACC to peer review every single draft risk evaluation for the next 20 high priority chemicals. With this prospective change in the scope of SACC activities, EPA anticipates appointing approximately 15 members to the SACC by March 2021.

III. Nominations

EPA values and welcomes diversity and encourages nominations of women and men of all racial and ethnic groups. Any interested person or organization may nominate qualified persons to be considered for appointment to this advisory committee. Individuals also may self-nominate. Nominations should be submitted in accordance with the instructions under ADDRESSES.

Nominations should include candidates who have demonstrated high levels of competence, knowledge, and expertise in scientific/technical fields relevant to chemical safety and risk assessment. In particular, the nominees should include representation of the following disciplines, including, but not limited to: Human health and ecological risk assessment, biostatistics, epidemiology, pediatrics, physiologically-based pharmacokinetics (PBPK), toxicology and pathology (including neurotoxicology, developmental/reproductive toxicology, and carcinogenesis), and the relationship of chemical exposures to women, children, and other potentially exposed or susceptible subpopulations.

EPA requests that nominations include the following information: Current contact information for the nominee (including the nominee's name, organization, current business address, email address, and daytime telephone number); the disciplinary and specific areas of expertise of the nominee; the nominee's curriculum vitae; and a biographical sketch of the nominee developed using the template available at https://www.epa.gov/tsca-peer-review/science-advisory-committee-chemicals-basic-information. Persons having questions about the nomination process should contact the DFO listed under FOR FURTHER INFORMATION CONTACT.

The names and biographical sketches of all interested and available candidates will be added to an updated List of Candidates that will be posted in the docket at http://www.regulations.gov and a link to this document will be provided on the SACC website at http://www.epa.gov/tsca-peer-review. Please note that no interested and available candidates will be excluded from the list based on prescreening using the selection criteria described in the next section. The availability of the list will be announced through the Office of Chemical Safety and Pollution Prevention (OCSPP)'s listservs. You may subscribe to these listservs at the following website: https://public.govdelivery.com/accounts/USAEPAOPPT/subscriber/new?topic_id=USAEPAOPPT_101. Public comments on the List of Candidates will be accepted for 30 days from the date the updated list is posted. Public comments should be submitted in accordance with the instructions under ADDRESSES. The public will be requested to provide relevant information or other documentation on nominees that the EPA should consider in evaluating candidates.

IV. Selection Criteria

In addition to scientific expertise, in selecting members, EPA will consider the differing perspectives and the breadth of collective experience needed to address EPA's charge to the SACC, as well as the following:

• Background and experiences that would contribute to the diversity of scientific viewpoints on the committee, including professional experiences in government, labor, public health, public interest, animal protection, industry, and other groups, as the EPA Administrator determines to be advisable (e.g., geographical location; social and cultural backgrounds; and professional affiliations);

• Skills and experience working on committees and advisory panels including demonstrated ability to work constructively and effectively in a committee setting;

• Absence of financial conflicts of interest or the appearance of a loss of impartiality;

• Willingness to commit adequate time for the thorough review of materials provided to the committee; and

• Availability to participate in committee meetings.

Authority: 15 U.S.C. 2625 et seq.; 5 U.S.C. Appendix 2 et seq.

Dated: August 10, 2020.
Hayley Hughes,
Director, Office of Science Coordination and Policy.

[FR Doc. 2020-17903 Filed 8-14-20; 8:45 am]

BILLING CODE 6560-50-P